DEPARTMENT OF THE INTERIOR

Bureau of Land Management

[WO 850-1820-XA-241A]

Acceptance of Electronic Forms and Digital Signatures

AGENCY: Bureau of Land Management, Interior.

ACTION: Notice.

SUMMARY: The Bureau of Land Management (BLM) will accept the electronic submission of forms, including the use of digital signatures where practicable.

DATES: October 1, 2004.

ADDRESSES: 1849 C St., NW., Mail Stop LS 1000, Washington, DC 20240.

FOR FURTHER INFORMATION CONTACT: For information on BLM's online forms, Karen Wrenn, BLM Forms Manager, 303-236-0233. For information on BLM's e-Government initiative, Peter G. D. Ertman, BLM e-Government Program Manager, 202-452-7706.

SUPPLEMENTARY INFORMATION: Effective October 1, 2004, the BLM will accept as “properly filed” any form in electronic format that was previously available only in paper format. If you choose to file on-line, you must use the forms available from http://www.nc.blm.gov/blmforms. BLM will not accept as “properly filed” the use of electronic forms in other formats or from other sources. In addition to using the form from the BLM forms Web site, you must also have a Federal Bridge Trusted credential. This credential provides a secure means of identifying you across the Internet. At the present time, you may obtain these credentials from two providers. The contact information for the current providers is: (1) Verisign, Inc., NPiazzola@verisign.com, 410-691-2100 and (2) Betrusted US, Inc., TGreco@betrusted.com, 443-367-7052, or JTLazo@betrusted.com, 443-367-7011.

BLM will consider an electronic form submission to be: (1) Received at the date and time BLM receives the submission electronically by the BLM; and (2) Received in the proper office if filed on-line.

The Government Paperwork Elimination Act of 1998 (GPEA) mandates that the Federal Government accept electronically submitted forms. The GPEA specifically states that electronic records and their related electronic signatures are not to be denied legal effect, validity, or enforceability merely because they are in electronic form. The public may continue to use, and BLM will continue to accept, filings on paper forms.

In many cases, our existing regulations require a written signature and filing of a paper form in a specific office. GPEA supercedes these regulations. Our intention is to propose regulations to address the inconsistency and to clarify that digital signatures and on-line filing (when performed as described above) is an acceptable way to file applications and other documents.

For more information on electronic signatures and e-Government in general, please visit http://www.whitehouse.gov/omb/egov/ea.htm and http://www.egov.gov.

Dated: September 8, 2004.
Lawrence E. Benna,
Assistant Director, Business and Fiscal Resources.

[FR Doc. 04-21785 Filed 9-30-04; 8:45 am]

BILLING CODE 4310-84-P